DEPARTMENT OF DEFENSE

GENERAL SERVICES ADMINISTRATION

NATIONAL AERONAUTICS AND SPACE ADMINISTRATION

48 CFR Parts 1, 2, 7, 11, 23, 25, and 52

[FAR Case 2014-026; Docket No. 2014-0026; Sequence No. 1]

RIN 9000-AM87

Federal Acquisition Regulation; High Global Warming Potential Hydrofluorocarbons

AGENCY: Department of Defense (DoD), General Services Administration (GSA), and National Aeronautics and Space Administration (NASA).

ACTION: Proposed rule.

SUMMARY: DoD, GSA, and NASA are proposing to amend the Federal Acquisition Regulation (FAR) to implement Executive branch policy in the President's Climate Action Plan to procure, when feasible, alternatives to high global warming potential (GWP) hydrofluorocarbons (HFCs). This will allow agencies to better meet the greenhouse gas emission reduction goals and reporting requirements of the Executive Order (E.O.) 13693 of March 25, 2015, Planning for Sustainability in the Next Decade. E.O. 13693 subsumes both E.O. 13423 of January 24, 2007, Strengthening Federal Environmental, Energy, and Transportation Management as well as E.O. 13514 of October 5, 2009, Federal Leadership in Environmental, Energy, and Economic Performance.

DATES: Interested parties should submit written comments to the Regulatory Secretariat at one of the addresses shown below on or before July 10, 2015 to be considered in the formation of the final rule.

ADDRESSES: Submit comments in response to FAR Case 2014-026 by any of the following methods:

• Regulations.gov: http://www.regulations.gov. Submit comments via the Federal eRulemaking portal by searching for “FAR Case 2014-026”. Select the link “Comment Now” that corresponds with “FAR Case 2014-026.” Follow the instructions provided at the “Comment Now” screen. Please include your name, company name (if any), and “FAR Case 2014-026” on your attached document.

• Mail: General Services Administration, Regulatory Secretariat (MVCB), ATTN: Ms. Flowers, 1800 F Street NW., 2nd Floor, Washington, DC 20405.

Instructions: Please submit comments only and cite FAR Case 2014-026, in all correspondence related to this case. All comments received will be posted without change to http://www.regulations.gov, including any personal and/or business confidential information provided.

FOR FURTHER INFORMATION CONTACT: Mr. Charles Gray, Procurement Analyst, at 703-795-6328, for clarification of content. For information pertaining to status or publication schedules, contact the Regulatory Secretariat at 202-501-4755. Please cite FAR Case 2014-026.

SUPPLEMENTARY INFORMATION:

I. Background

DoD, GSA, and NASA are proposing to revise the FAR to implement Executive branch policy in the President's Climate Action Plan to procure, when feasible, alternatives to high GWP HFCs and allow agencies to better meet the greenhouse gas emission reduction goals and reporting requirements formerly required by Executive Order (E.O.) 13514, and now required by E.O. 13693, Planning for Federal Sustainability in the Next Decade.

President Obama issued his Climate Action Plan (CAP), dated June 2013, that includes a broad set of steps designed to slow the effects of climate change, see http://www.whitehouse.gov/sites/default/files/image/president27sclimateactionplan.pdf. Among the many actions called for, the CAP outlined a set of measures to address HFCs, potent greenhouse gases primarily used in refrigeration and air conditioning, see section IV. The CAP states that “emissions of HFCs are expected to nearly triple by 2030, and double from current levels of 1.5 percent of greenhouse gas emissions to 3 percent by 2020”. For example, the atmospheric concentration of HFC-134a, the most abundant HFC, has increased by about 10 percent per year from 2006 to 2012, and the concentrations of HFC-143a and HFC-125 have risen over 13 percent and 16 percent per year from 2007-2011, respectively.

In order to address high GWP HFCs, the President directed Federal agencies to lead through both international diplomacy and domestic action. In particular, he directed the U.S. Environmental Protection Agency (EPA) to use its authority through the Significant New Alternatives Policy (SNAP) Program to encourage private sector investment in low-emissions technology by identifying and approving climate-friendly chemicals while prohibiting certain uses of the most climate-harmful chemical alternatives. In addition, the CAP noted “the President has directed his Administration to purchase cleaner alternatives to HFCs whenever feasible and transition over time to equipment that uses safer and more sustainable alternatives”. There are lower GWP alternatives available now for certain applications, and likely more will become available within the next 5 years to replace the higher GWP HFCs that contribute to climate change. Agencies are already reporting emissions of greenhouse gases, including HFCs, as formerly required by E.O. 13514. In order to understand and track the Government's progress to reduce HFC emissions, improved reporting of current HFC usage is necessary to baseline efforts.

II. Discussion and Analysis

A. Policy and Procedures

Accordingly, DoD, GSA, and NASA are proposing to amend FAR subpart 23.8 to include—

(1) A policy statement at FAR 23.802 reflecting the Government's commitment to minimize the procurement and the potential use, release, or emission of high GWP HFCs that contribute to climate change; and

(2) Procedures at FAR 23.803 that address substitution of lower GWP alternatives where feasible, and referring to EPA's SNAP program to identify acceptable alternatives.

B. Clauses

The proposed rule includes contract clauses, prescribed at FAR 23.804, that—

• Give direction to contractors to take steps in furtherance of this policy (including, when feasible, reducing the amount of HFC emissions and substituting lower GWP alternatives as part of the normal equipment maintenance and replacement process); and

• Require limited contractor reporting (i.e., the amount in pounds of HFCs or refrigerant blends containing HFCs in the equipment and appliances delivered to the Government and the amount in pounds of HFCs or refrigerant blends containing HFCs added or taken out of equipment or appliances during maintenance, service, repair, or disposal, which contractors may track as part of billing the Government), so that the Government can track progress and impact of products (equipment and appliances) procured and delivered with HFCs or refrigerant blends containing HFCs. Reporting is limited to equipment and appliances that normally contain 50 or more pounds of HFCs or refrigerant blends containing HFCs. At these levels of refrigerant use, considering the associated cost, contractors are likely to already have access to quantity of HFC and refrigerant blends containing HFCs used due to cost.

This rule proposes to modify the existing FAR clauses at 52.223-11, Ozone-Depleting Substances, and 52.223-12, Refrigeration Equipment and Air Conditioners, to address high GWP HFCs, as well as ozone-depleting substances. In addition, the rule proposes to add two new clauses specifically focused on use of alternatives, where feasible, in place of high GWP HFCs in aerosol cans (as propellants or solvents) and as foam blowing agents.

C. Definitions

The rule proposes to amend FAR part 2 by adding the new definitions of “global warming potential,” “hydrofluorocarbons”, and “high global warming potential hydrofluorocarbons”. The rule also adds in FAR part 2 a definition of “manufactured end product” (currently defined in the FAR clause 52.225-18), with update to the current terminology for product and service code/group, rather, than Federal supply class/group.

D. Applicability

This proposed rule will apply to all acquisitions inside the United States and its outlying areas of products or services containing or using high GWP HFCs, including—

• Commercial items that use part 12 procedures; and

• Acquisitions that do not exceed the simplified acquisition threshold.

The reporting requirement applies only for delivery of, or maintenance, service, repair and disposal of, equipment or appliances normally containing 50 pounds or more of HFCs or refrigerant blends containing HFCs.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is a significant regulatory action and, therefore, was subject to review under section 6(b) of E.O. 12866, Regulatory Planning and Review, dated September 30, 1993. This rule is not a major rule under 5 U.S.C. 804.

IV. Regulatory Flexibility Act

The change may have a significant economic impact on a substantial number of small entities within the meaning of the Regulatory Flexibility Act, 5 U.S.C. 601, et seq. The Initial Regulatory Flexibility Analysis (IRFA) is summarized as follows:

This rule is necessary to implement Executive branch policy stated in the President's Climate Action Plan.

The objective of this rule is to require Federal agencies to procure climate-friendly alternatives to high global warming potential (GWP) hydrofluorocarbons (HFCs) and allow agencies to better meet the greenhouse gas emission reduction goals and reporting requirements formerly required by Executive Order (E.O.) 13514, and now required by E.O. 13693, Planning for Federal Sustainability in the Next Decade.

Based on FPDS data for FY 2013, this rule will apply to approximately 1,680 small business contractors that provide supplies (including equipment and appliances) to the Federal Government and about 640 small business contractors that provide maintenance, service, repair, or disposal of refrigeration equipment or air conditioners. In addition, although the proposed clauses at 252.223-XX, Aerosols, and 52.223-YY, Foams, do not contain any reporting requirements, these clauses also apply respectively to solicitations and contracts that involve repair or maintenance of electronic or mechanical devices and construction of buildings and facilities.

We estimate an average reporting burden of about 8 hours per year for each of the small businesses providing supplies containing high GWP HFCs or maintenance, service, repair, or disposal of refrigeration equipment or air conditioners.

The rule does not duplicate, overlap, or conflict with any other Federal rules.

We did not identify any significant alternatives to the rule that would accomplish the stated objectives of the President's Climate Action Plan and the Executive Order.

It is necessary for the rule to apply to small entities, because about three-quarters of the affected contractors are small businesses. Every effort has been made to minimize the burdens imposed.

The Regulatory Secretariat has submitted a copy of the IRFA to the Chief Counsel for Advocacy of the Small Business Administration. A copy of the IRFA may be obtained from the Regulatory Secretariat. DoD, GSA, and NASA invite comments from small business concerns and other interested parties on the expected impact of this rule on small entities.

DoD, GSA, and NASA will also consider comments from small entities concerning the existing regulations in subparts affected by the rule in accordance with 5 U.S.C. 610. Interested parties must submit such comments separately and should cite 5 U.S.C. 610 (FAR Case 2014-026), in correspondence.

V. Paperwork Reduction Act

The Paperwork Reduction Act (44 U.S.C. chapter 35) applies. The proposed rule contains information collection requirements. Accordingly, the Regulatory Secretariat has submitted a request for approval of a new information collection requirement concerning GWP HFCs to the Office of Management and Budget.

A. Public reporting burden for this collection of information is estimated to average 8 hours per response, including the time for reviewing instructions, searching existing data sources, gathering and maintaining the data needed, and completing and reviewing the collection of information.

The annual reporting burden estimated as follows:

Respondents: 3,172.

Responses per respondent: 1.

Total annual responses: 3,172.

Preparation hours per response: 8 hours.

Total response Burden Hours: 25,376.

B. Request for Comments Regarding Paperwork Burden.

Submit comments, including suggestions for reducing this burden, not later than July 10, 2015 to: FAR Desk Officer, OMB, Room 10102, NEOB, Washington, DC 20503, and a copy to the General Services Administration, Regulatory Secretariat Division (MVCB), ATTN: Ms. Flowers, 1800 F Street NW., 2nd Floor, Washington, DC 20405-0001.

Public comments are particularly invited on: Whether this collection of information is necessary for the proper performance of functions of the FAR, and will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Requesters may obtain a copy of the supporting statement from the General Services Administration, Regulatory Secretariat (MVCB), ATTN: Hada Flowers, 1800 F Street NW., 2nd Floor, Washington, DC 20405-0001. Please cite OMB Control Number 9000-0191, High Global Warming Potential Hydrofluorocarbons, in all correspondence.

List of Subjects in 48 CFR Parts 1, 2, 7, 11, 23, 25, and 52

Government procurement.

Dated: May 5, 2015.
William Clark,
Director, Office of Government-wide Acquisition Policy, Office of Acquisition Policy, Office of Government-wide Policy.

Therefore, DoD, GSA, and NASA propose amending 48 CFR parts 1, 2, 7, 11, 23, 25, and 52 as set forth below:

1. The authority citation for 48 CFR parts 1, 2, 7, 11, 23, 25, and 52 continues to read as follows:

Authority: 40 U.S.C. 121(c); 10 U.S.C. chapter 137; and 51 U.S.C. 20113.

PART 1—FEDERAL ACQUISITION REGULATIONS SYSTEM

1.106 [Amended]

2. Amend section 1.106 in the table following the introductory text, by adding in numerical sequence, FAR segments “52.223-11” and “52.223-12” and their corresponding OMB Control Number “9000-0191”.

PART 2—DEFINITIONS OF WORDS AND TERMS

3. Amend section 2.101, in paragraph (b)(2) by adding, in alphabetical order, the definitions “Global warming potential”, “High global warming potential hydrofluorocarbons”, “Hydrofluorocarbons”, “Manufactured end product”, and “Products” to read as follows:

2.101 Definitions.

* * * * *

(b) * * *

(2) * * *

Global warming potential means a measure of the total energy that a gas absorbs over a particular period of time (usually 100 years), compared to carbon dioxide.

* * * * *

High global warming potential hydrofluorocarbons means any hydrofluorocarbons for which EPA's Significant New Alternatives Policy (SNAP) program (40 CFR part 82 Subpart G) identifies acceptable lower global warming potential alternatives with supplemental tables of alternatives available at (http://www.epa.gov/ozone/snap/).

* * * * *

Hydrofluorocarbons means compounds that contain only hydrogen, fluorine, and carbon.

* * * * *

Manufactured end product means any end product in product and service codes (PSC) 1000-9999, except—

(1) PSC 5510, Lumber and Related Basic Wood Materials;

(2) Product or service group (PSG) 87, Agricultural Supplies;

(3) PSG 88, Live Animals;

(4) PSG 89, Subsistence;

(5) PSC 9410, Crude Grades of Plant Materials;

(6) PSC 9430, Miscellaneous Crude Animal Products, Inedible;

(7) PSC 9440, Miscellaneous Crude Agricultural and Forestry Products;

(8) PSC 9610, Ores;

(9) PSC 9620, Minerals, Natural and Synthetic; and

(10) PSC 9630, Additive Metal Materials.

* * * * *

Products has the same meaning as supplies.

* * * * *

PART 7—ACQUISITION PLANNING

4. Amend section 7.103 by revising paragraph (p)(2) to read as follows:

7.103 Agency-head responsibilities.

* * * * *

(p) * * *

(2) Comply with the policy in 11.002(d) regarding procurement of: Biobased products, products containing recovered materials, environmentally preferable products and services (including Electronic Product Environmental Assessment Tool (EPEAT®)-registered electronic products, nontoxic or low-toxic alternatives), ENERGY STAR® and Federal Energy Management Program-designated products, renewable energy, water-efficient products, non-ozone-depleting products, and products and services that minimize or eliminate, when feasible, the use, release, or emission of high global warming potential hydrofluorocarbons;

* * * * *

PART 11—DESCRIBING AGENCY NEEDS

5. Amend section 11.002 by revising paragraph (d)(1)(vi) to read as follows:

11.002 Policy.

* * * * *

(d)(1) * * *

(vi) Non-ozone-depleting substances; and products and services that minimize or eliminate, when feasible, the use, release, or emission of high global warming potential hydrofluorocarbons (subpart 23.8).

* * * * *

PART 23—APPLICATION OF LABOR LAWS TO GOVERNMENT

6. Amend section 23.000 by revising paragraph (d) to read as follows:

23.000 Scope.

* * * * *

(d) Acquiring energy-efficient and water-efficient products and services, environmentally preferable (including EPEAT®-registered, and non-toxic and less toxic) products, products containing recovered materials, biobased products, non-ozone-depleting products, and products and services that minimize or eliminate, when feasible, the use, release, or emission of high global warming potential hydrofluorocarbons;

* * * * *

7. Revise subpart 23.8 to read as follows:

Subpart 23.8—Ozone-Depleting Substances and Hydrofluorocarbons
Sec.
23.800 Scope of subpart.
23.801 Authorities.
23.802 Policy.
23.803 Procedures.
23.804 Contract clauses.

Subpart 23.8—Ozone-Depleting Substances and Hydrofluorocarbons

23.800 Scope of subpart.

This subpart sets forth policies and procedures for the acquisition of items that—

(a) Contain, use, or are manufactured with ozone-depleting substances; or

(b) Contain or use high global warming potential hydrofluorocarbons.

23.801 Authorities.

(a) Title VI of the Clean Air Act (42 U.S.C. 7671, et seq.).

(b) Section 706 of Division D, title VII of the Omnibus Appropriations Act, 2009 (Pub. L. 111-8).

(c) Executive Order 13693 of March 25, 2015, Planning for Federal Sustainability in the Next Decade.

(d) Environmental Protection Agency (EPA) regulations, Protection of Stratospheric Ozone (40 CFR part 82).

23.802 Policy.

It is the policy of the Federal Government that Federal agencies—

(a) Implement cost-effective programs to minimize the procurement of materials and substances that contribute to the depletion of stratospheric ozone and/or result in the use, release or emission of high global warming potential hydrofluorocarbons; and

(b) Give preference to the procurement of acceptable alternative chemicals, products, and manufacturing processes that reduce overall risks to human health and the environment by minimizing—

(1) The depletion of ozone in the upper atmosphere; and

(2) The potential use, release, or emission of high global warming potential hydrofluorocarbons.

23.803 Procedures.

In preparing specifications and purchase descriptions, and in the acquisition of products and services, agencies shall—

(a) Comply with the requirements of title VI of the Clean Air Act, section 706 of division D, title VII of Pub. L. 111-8, Executive Order 13693, and 40 CFR 82.84(a)(2), (3), (4), and (5);

(b) Substitute acceptable alternatives to ozone-depleting substances, as identified under 42 U.S.C. 7671k, to the maximum extent practicable, as provided in 40 CFR 82.84(a)(1), except in the case of Class I substances being used for specified essential uses, as identified under 40 CFR 82.4(n);

(c) Specify, when feasible, that contractors shall substitute acceptable lower global warming potential alternatives for high global warming potential hydrofluorocarbons in products and services; and

(d) Refer to EPA's Significant New Alternatives Policy (SNAP) program (available at http://www.epa.gov/ozone/snap) to identify acceptable alternatives to ozone-depleting substances and high global warming potential hydrofluorocarbons.

23.804 Contract clauses.

Except for contracts that will be performed outside the United States and its outlying areas, insert the following clauses:

(a) 52.223-11, Ozone-Depleting Substances and High Global Warming Potential Hydrofluorocarbons, in solicitations and contracts for—

(1) Refrigeration equipment (in product or service code (PSC) 4110);

(2) Air conditioning equipment (PSC 4120);

(3) Clean agent fire suppression systems/equipment (e.g., installed room flooding systems, portable fire extinguishers, aircraft/tactical vehicle fire/explosion suppression systems) (in PSC 4210);

(4) Bulk refrigerants and fire suppressants (in PSC 6830);

(5) Solvents, dusters, freezing compounds, mold release agents, and any other miscellaneous chemical specialty that may contain ozone-depleting substances or high global warming potential hydrofluorocarbons (in PSC 6850);

(6) Corrosion prevention compounds, foam sealants, aerosol mold release agents, and any other preservative or sealing compound that may contain ozone-depleting substances or high global warming potential hydrofluorocarbons (in PSC 8030);

(7) Fluorocarbon lubricants (primarily aerosols) (in PSC 9150); and

(8) Any other manufactured end products that may contain or be manufactured with ozone-depleting substances.

(b) 52.223-12, Maintenance, Service, Repair, or Disposal of Refrigeration Equipment and Air Conditioners, in solicitations and contracts that include the maintenance, service, repair, or disposal of—

(1) Refrigeration equipment, such as refrigerators, chillers, or freezers; or

(2) Air conditioners, including air conditioning systems in motor vehicles.

(c) 52.223-XX, Aerosols, in solicitations and contracts—

(1) For products that may contain high global warming potential hydrofluorocarbons as a propellant, or as a solvent; or

(2) That involve maintenance or repair of electronic or mechanical devices.

(d) 52.223-YY, Foams, in solicitations and contracts for—

(1) Products that may contain high global warming potential hydrofluorocarbons or refrigerant blends containing hydrofluorocarbons as a foam blowing agent, such as building foam insulation or appliance foam insulation; or

(2) Construction of buildings or facilities.

PART 25—FOREIGN ACQUISITION

25.1101 [Amended]

8. Amend section 25.1101 by removing from paragraph (f) “, as defined in the provision at 52.225-18”.

PART 52—SOLICITATION PROVISIONS AND CONTRACT CLAUSES

9. Amend section 52.212-5 by—

a. Revising the date of the clause;

b. Redesignating paragraphs (b)(35) through (b)(53) as paragraphs (b)(39) through (b)(57), respectively; and

c. Adding new paragraphs (b)(35) through (b)(38) to read as follows:

52.212-5 Contract Terms and Conditions Required to Implement Statutes or Executive Orders—Commercial Items.

* * * * *

Contract Terms and Conditions Required to Implement Statutes or Executive Orders—Commercial Items (Date)

* * * * *

(b) * * *

___(35) 52.223-11, Ozone-Depleting Substances and High Global Warming Potential Hydrofluorocarbons (Date) (E.O. 13693).

___(36) 52.223-12, Maintenance, Service, Repair, or Disposal of Refrigeration Equipment and Air Conditioners (Date) (E.O. 13693).

___(37) 52.223-XX, Aerosols (Date) (E.O. 13693).

___(38) 52.223-YY, Foams (Date) (E.O. 13693).

* * * * *

10. Amend section 52.213-4 by—

a. Revising the date of the clause; and

b. Redesignating paragraphs (b)(1)(ix) through (b)(1)(xvi) as paragraphs (b)(1)(xiii) through (b)(1)(xx), respectively; and

c. Adding new paragraphs (b)(1)(ix) through (b)(1)(xii) to read as follows:

52.213-4 Terms and Conditions-Simplified Acquisitions (Other Than Commercial Items).

* * * * *

Terms and Conditions—Simplified Acquisitions (Other Than Commercial Items) (Date)

* * * * *

(b) * * *

(1) * * *

(ix) 52.223-11, Ozone-Depleting Substances and High Global Warming Potential Hydrofluorocarbons (Date) (E.O. 13693) (applies to contracts for products as prescribed at FAR 23.804(a)).

(x) 52.223-12, Maintenance, Service, Repair, or Disposal of Refrigeration Equipment and Air Conditioners (Date) (E.O. 13693) (Applies to maintenance, service, repair, or disposal of refrigeration equipment and air conditioners).

(xi) 52.223-XX, Aerosols (Date) (E.O. 13693) (Applies to products that may contain high global warming potential hydrofluorocarbons as a propellant or as a solvent; or maintenance or repair of electronic or mechanical devices).

(xii) 52.223-YY, Foams (Date) (E.O. 13693) (Applies to products that may contain high global warming potential hydrofluorocarbons or refrigerant blends containing hydrofluorocarbons as a foam blowing agent; or construction of buildings or facilities.

* * * * *

11. Revise section 52.223-11 to read as follow:

52.223-11 Ozone-Depleting Substances and High Global Warming Potential Hydrofluorocarbons.

As prescribed in 23.804(a), insert the following clause:

Ozone-Depleting Substances and High Global Warming Potential Hydrofluorocarbons (Date)

(a) Definitions.

As used in this clause—

Global warming potential means a measure of the total energy that a gas absorbs over a particular period of time (usually 100 years), compared to carbon dioxide.

High global warming potential hydrofluorocarbons means any hydrofluorocarbons for which EPA's Significant New Alternatives Policy (SNAP) program (40 CFR Part 82 Subpart G) identifies acceptable lower global warming potential alternatives with supplemental tables of alternatives available at (http://www.epa.gov/ozone/snap/).

Hydrofluorocarbons means compounds that only contain hydrogen, fluorine, and carbon.

Ozone-depleting substance means any substance the Environmental Protection Agency designates in 40 CFR part 82 as—

(1) Class I, including, but not limited to, chlorofluorocarbons, halons, carbon tetrachloride, and methyl chloroform; or

(2) Class II, including, but not limited to, hydrochlorofluorocarbons.

(b) The Contractor shall label products which contain or are manufactured with ozone-depleting substances in the manner and to the extent required by 42 U.S.C. 7671j (b), (c), (d), and (e) and 40 CFR part 82, subpart E, as follows:

Warning

Contains (or manufactured with, if applicable) *_____, a substance(s) which harm(s) public health and environment by destroying ozone in the upper atmosphere.

* The Contractor shall insert the name of the substance(s).

(c) Reporting. For equipment and appliances that normally each contain 50 or more pounds of hydrofluorocarbons or refrigerant blends containing hydrofluorocarbons, the Contractor shall—

(1) Track on an annual basis, between October 1 and September 30, the amount in pounds of hydrofluorocarbons or refrigerant blends containing hydrofluorocarbons contained in the equipment and appliances delivered to the Government under this contract by—

(i) Type of hydrofluorocarbon (e.g., HFC-134a, HFC-125, R-410A, R-404A, etc.);

(ii) Product or service code;

(iii) Equipment/appliance;

(iv) Contract number;

(v) Agency; and

(vi) Delivery location of equipment/appliance.

(2) Report that information to www.sam.gov—

(i) Annually by October 31 during each year during contract performance; and

(ii) At the end of contract performance.

(d) Refer to EPA's Significant New Alternatives Policy (SNAP) program (available at http://www.epa.gov/ozone/snap) to identify acceptable alternatives to ozone-depleting substances and high global warming potential hydrofluorocarbons.

(End of clause)

12. Revise section 52.223-12 to read as follows:

52.223-12 Maintenance, Service, Repair, or Disposal of Refrigeration Equipment and Air Conditioners.

As prescribed in 23.804(b), insert the following clause:

Maintenance, Service, Repair, or Disposal of Refrigeration Equipment and Air Conditioners (Date)

(a) Definitions.

As used in this clause—

Global warming potential means a measure of the total energy that a gas absorbs over a particular period of time (usually 100 years), compared to carbon dioxide.

High global warming potential hydrofluorocarbons means any hydrofluorocarbons for which EPA's Significant New Alternatives Policy (SNAP) program (40 CFR Part 82 Subpart G) identifies acceptable lower global warming potential alternatives with supplemental tables of alternatives available at (http://www.epa.gov/ozone/snap/).

Hydrofluorocarbons means compounds that contain only hydrogen, fluorine, and carbon.

(b) The Contractor shall comply with the applicable requirements of Sections 608 and 609 of the Clean Air Act (42 U.S.C. 7671g and 7671h) as each or both apply to this contract.

(c) Unless otherwise specified in the contract, the Contractor shall reduce the use, release, or emissions of high global warming potential hydrofluorocarbons under this contract by—

(1) Transitioning over time from high global warming potential hydrofluorocarbons to acceptable alternatives;

(2) Preventing and repairing refrigerant leaks through service and maintenance during contract performance; and

(3) Implementing recovery, recycling, and responsible disposal programs that avoid release or emissions during equipment service and as the equipment reaches the end of its useful life.

(d) The Contractor shall—

(1) Track on an annual basis, between October 1 and September 30, by type of hydrofluorocarbon (e.g., HFC-134a, HFC-125, R-410A, R-404A, etc.), equipment/appliance, contract number, agency, and location of equipment/appliance, the amount in pounds of hydrofluorocarbons or refrigerant blends containing hydrofluorocarbons added or taken out of equipment or appliances under this contract that—

(i) Normally each contain 50 or more pounds of hydrofluorocarbons or refrigerant blends containing hydrofluorocarbons; and

(ii) Will be maintained, serviced, repaired, or disposed under this contract; and

(2) Report that information to www.sam.gov—

(i) No later than October 31 of each year during contract performance; and

(ii) At the end of contract performance.

(e) The Contractor shall refer to EPA's Significant New Alternatives Policy (SNAP) program (available at http://www.epa.gov/ozone/snap) to identify acceptable alternatives to ozone-depleting substances and high global warming potential hydrofluorocarbons that consider the overall risks to human health and the environment.

(End of clause)

13. Add section 52.223-XX to read as follows:

52.223-XX Aerosols.

As prescribed in 23.804(c), insert the following clause:

Aerosols (Date)

(a) Definitions. As used in this clause—

Global warming potential means a measure of the total energy that a gas absorbs over a particular period of time (usually 100 years), compared to carbon dioxide.

High global warming potential hydrofluorocarbons means any hydrofluorocarbons for which EPA's Significant New Alternatives Policy (SNAP) program (40 CFR Part 82 Subpart G) identifies acceptable lower global warming potential alternatives with supplemental tables of alternatives (available at http://www.epa.gov/ozone/snap/).

Hydrofluorocarbons means compounds that contain only hydrogen, fluorine, and carbon.

(b) Unless otherwise specified in the contract, the Contractor shall reduce its use, release, or emissions of high global warming potential hydrofluorocarbons from aerosol propellants or solvents under this contract, by furnishing products and equipment or performing services using acceptable alternatives, when feasible.

(c) The Contractor shall refer to EPA's Significant New Alternatives Policy (SNAP) program (available at http://www.epa.gov/ozone/snap) to identify acceptable alternatives to ozone-depleting substances and high global warming potential hydrofluorocarbons that consider the overall risks to human health and the environment.

(End of clause)

14. Add section 52.223-YY to read as follows:

52.223-YY Foams.

As prescribed in 23.804(d), insert the following clause:

Foams (Date)

(a) Definitions. As used in this clause—

Global warming potential means a measure of the total energy that a gas absorbs over a particular period of time (usually 100 years), compared to carbon dioxide.

High global warming potential hydrofluorocarbons means any hydrofluorocarbons for which EPA's Significant New Alternatives Policy (SNAP) program (40 CFR Part 82 Subpart G) identifies acceptable lower global warming potential alternatives with supplemental tables of alternatives available at (http://www.epa.gov/ozone/snap/).

Hydrofluorocarbons means compounds that contain only hydrogen, fluorine, and carbon.

(b) Unless otherwise specified in the contract, the Contractor shall reduce its use, release, and emissions of high global warming potential hydrofluorocarbons and refrigerant blends containing hydrofluorocarbons from foam blowing agents, under this contract, by furnishing products and equipment or construction using acceptable alternatives, when feasible.

(c) The Contractor shall refer to EPA's Significant New Alternatives Policy (SNAP) program (available at http://www.epa.gov/ozone/snap) to identify acceptable alternatives to ozone-depleting substances and high global warming potential hydrofluorocarbons.

(End of clause)

[FR Doc. 2015-11231 Filed 5-8-15; 8:45 am]

BILLING CODE 6820-EP-P